DEPARTMENT OF VETERANS AFFAIRS

Enhanced-Use Lease of VA Property for the Development and Operation of a Senior Housing Facility for Low Income Veterans at the Department of Veterans Affairs Medical Center, Dayton, OH

AGENCY: Department of Veterans Affairs (VA).

ACTION: Notice of intent to enter into an enhanced-use lease.

SUMMARY: The Secretary of the Department of Veterans Affairs (VA) intends to enter into an enhanced-use lease of approximately 6 acres of underutilized land at the VA Medical Center in Dayton, Ohio. The selected lessee will finance, design, develop, construct, operate, maintain and manage a facility to provide senior housing for low income veterans. The facility will include a single 3-story, newly constructed masonry building, with not less than 61 one-bedroom and 6 two-bedroom units and associated vehicular parking spaces. The lessee also will be required to provide VA with agreed-upon ground rent payments and in-kind consideration consisting of priority placement and a discount rental rate that eligible veterans will pay to reside in the facility.

FOR FURTHER INFORMATION CONTACT: Edward Bradley, Office of Asset Enterprise Management (004B), Department of Veterans Affairs, 810 Vermont Avenue, NW., Washington, DC 20420, (202) 461-7778 (this is not a toll-free number).

SUPPLEMENTARY INFORMATION: Title 38 U.S.C. 8161 et seq. states that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: March 17, 2008.
James B. Peak,
Secretary of Veterans Affairs.

[FR Doc. E8-5723 Filed 3-20-08; 8:45 am]

BILLING CODE 8320-01-P